DEPARTMENT OF TRANSPORTATION

Federal Aviation Administration

[Docket No.: FAA-2019-0229]

Agency Information Collection Activities: Request for Comments; Clearance of a New Approval of Information Collection: Launch and Reentry Licensing Requirements

AGENCY: Federal Aviation Administration (FAA), DOT.

ACTION: Notice and request for comments.

SUMMARY: In accordance with the Paperwork Reduction Act of 1995, the FAA invites public comments on its proposed collection of information pursuant to changes to the FAA's commercial space transportation regulations proposed in the “Streamlined Launch and Reentry Licensing Requirements” notice of proposed rulemaking (NPRM). A copy of the NPRM is available in the docket for this notice. This information collection would consolidate two previously approved information collections under one, new OMB Control Number. This collection would allow the FAA to continue ensuring commercial space activities do not unduly jeopardize public health and safety, safety of property, or the national security and foreign policy interests of the United States. The FAA intends to request the Office of Management and Budget's approval of this information collection.

DATES: Written comments should be submitted by July 8, 2019.

ADDRESSES: Please send written comments to:

By Electronic Docket: www.regulations.gov (Enter docket number FAA-2019-0229 into search field).

By mail: Shirley McBride, Program Manager, Federal Aviation Administration, AST-300, 800 Independence Avenue SW, Washington, DC 20591.

By fax: 202-267-5463.

FOR FURTHER INFORMATION CONTACT: Shirley McBride, Program Manager, by email at: Shirley.McBride@faa.gov; phone: 202-267-7470.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-NEW.

Title: Streamlined Launch and Reentry Licensing Requirements.

Form Numbers: None.

Type of Review: This is a request for OMB clearance of an information collection that would consolidate two previous collections ¹ into one collection under a new OMB Control Number.²

¹ OMB Control Number 2120-0608: Title 14 CFR, Parts 401, 413, 415, 417; Licensing and Safety Requirements for Launch (For Expendable Launch Vehicle). OMB Control Number 2120-0643: Title 14 CFR, Parts 431, 435; Commercial Space Transportation Reusable Launch Vehicle Mission Licensing Regulations (Part 431) and Commercial Space Transportation Reentry of a Vehicle Other Than a Reusable Launch Vehicle Licensing Regulations (Part 435).

² OMB Control Number 2120-NEW: Title 14 CFR, Parts 401, 413, 450; Launch and Reentry Licensing Requirements.

Background: 51 U.S.C. Chapter 509 requires that the FAA oversee commercial space transportation activities in the United States, or conducted by United States citizens abroad, to ensure they do not unduly jeopardize the public health and safety, safety of property, or national security or foreign policy interests of the United States. Generally speaking, Chapter 509 requires a person to obtain a license to launch or reenter a vehicle from or to the United States, or a U.S. citizen to obtain a license to launch or reenter a vehicle from or to a point outside the United States.

On April 15, 2019, the FAA published the NPRM titled “Streamlined Launch and Reentry Licensing Requirements,” a copy of which you can find in the docket to this notice. The proposed rule would streamline and increase flexibility in the FAA's commercial space regulations; remove obsolete requirements; and, consolidate and revise multiple regulatory parts to apply a single set of licensing and safety regulations across several types of launch and reentry activities and related vehicles. Specifically, the NPRM would eliminate current parts 415, 417, 431, and 435 and replace them with part 450, an updated, streamlined, and consolidated version of the previous requirements. The FAA collected information for those parts pursuant to OMB Control Numbers 2120-0608 and 2120-0643. As a result, the two current Information Collection Requirements ³ associated with those eliminated parts would be obsolete. The FAA proposes to replace the obsolete Information Collection Requirements with a new collection associated with proposed part 450. The new collection reflects the proposed requirements described in detail in the referenced NPRM and summarized below.

³ Ibid.

Parts 413 and 450 collectively identify information applicants must submit for a vehicle operator license. Part 413 (§ 413.7) sets the manner for submitting an application. Part 450 Subpart B (Requirements to obtain a vehicle operator license) sets the broad application requirements to obtain a vehicle operator license. For example, § 450.41 sets requirements for policy review, § 450.43 for payload review, § 450.45 covers safety, and § 450.47 addresses environmental requirements. Part 450 subpart C (Safety requirements) focuses on safety requirements, some of which must be satisfied by the time of application while others apply post-license. Applicants must, therefore, provide the FAA information showing regulatory compliance both as part of the application and after the FAA grants a license. Part 450 subpart D (Terms and conditions of a vehicle operator license) contains requirements for continuing accuracy of a license and application for modification of a license (§ 450.211), preflight reporting (§ 450.213), post-flight reporting (§ 450.215), and registration of space objects (§ 450.217.)

The FAA's Office of Commercial Space Transportation (AST) uses the information to ensure commercial space activities in the United States, or conducted by United States citizens abroad, do not jeopardize the public health and safety, safety of property, or national security or foreign policy interests of the United States. AST uses the data to assess the risk to public health and safety, and the safety of property. Risk must remain within the limits set in FAA regulations. AST shares other information with government partners (e.g., the National Aeronautics and Space Administration, U.S. Department of Defense, U.S. Department of State) during payload and policy reviews to ensure the proposed activities do not present unacceptable national security or foreign policy implications for the United States.

The FAA collects information before and after the issuance of a vehicle operator license. An applicant's license proposal is assessed in terms of significant policy issues affecting the national security, foreign policy interests, or international obligations of the United States. Information collected allows AST to make a preliminary assessment of a proposed launch or reentry prior to beginning general licensing application procedures. The applicant must also demonstrate that it can safely launch, including with a payload if any, or reenter its vehicle. To this end, AST's safety evaluation process requires an applicant to submit information that includes a description of its system safety program, hazard control strategy, and mishap response plan. Also, operators must meet preflight and post-flight reporting requirements.

Additionally, Article IV of the 1975 Convention on Registration of Objects Launched Into Outer Space (Registration of Space Objects), to which the United States is a signatory, requires details about the orbit of each space object. To meet this obligation, the FAA requires operators to register with AST the name and mission of any payload.

Further, according to the requirements of the National Environmental Policies Act, 42 U.S.C. 4321, et seq., (NEPA), the Council on Environmental Quality Regulations for Implementing the Procedural Provisions of NEPA, 40 CFR parts 1500-1508, and the DOT's Procedures for Considering Environmental Impacts, (that is, DOT Order 5610.1C), applicants must submit environmental information to AST. This includes information concerning proposed new launch or reentry sites and launch or reentry vehicles not currently described in the environmental impact statements, as well as payloads that may have significant environmental impacts if a launch or reentry accident occurs.

For the most part, the information the FAA collects is not collected by other government entities. However, the FAA works with regulated entities and other government agencies to identify areas of duplication. To the extent the FAA identifies duplication, the FAA encourages regulated entities to submit the previously submitted documentation to the FAA in its original format. In general, an applicant can submit information in any format. Unique information routinely constitutes a small portion of the data collected. Furthermore, instead of resubmitting a document to the FAA, the FAA allows a regulated entity to reference previously submitted materials (highlighting any changes).

The FAA expects the information received under prior OMB Control Numbers 2120-0608 and 2120-0643 to be substantively similar to the information received under the new OMB control number.

Respondents: All entities wishing to obtain or maintain a vehicle operator license to conduct commercial space launch or reentry activities would be required to report information from this collection.

Frequency: An operator may submit an initial application for one or multiple launches or reentries or may modify an existing license or may renew an existing license. The FAA estimates it would receive on average 5 initial applications, 9 modifications, and 3 renewals annually.

Estimated Average Burden per Response: Each initial application is estimated to take 2,903 hours, each modification is estimated to take 1,452 hours and each license renewal is expected to take 290 hours.

Estimated Total Annual Burden: The estimated total average annual burden hours is 27,000 hours.

Issued in Washington, DC, on May 3, 2019.
Kelvin B. Coleman,
Deputy Associate Administrator, Office of Commercial Space Transportation.

[FR Doc. 2019-09588 Filed 5-8-19; 8:45 am]

BILLING CODE 4910-13-P